DEPARTMENT OF TRANSPORTATION

Federal Aviation Administration

14 CFR Part 71

[Docket No. FAA-2020-0702; Amendment No. 71-52]

RIN 2120-AA66

Airspace Designations; Incorporation by Reference Amendments

AGENCY: Federal Aviation Administration (FAA), DOT.

ACTION: Final rule, administrative correction.

SUMMARY: This action incorporates certain airspace designation amendments into FAA Order 7400.11E, dated July 21, 2020, and effective September 15, 2020, for incorporation by reference.

DATES: Effective date 0901 UTC October 22, 2020. The Director of the Federal Register approves this incorporation by reference action under Title 1 CFR part 51, subject to the annual revision of FAA Order 7400.11 and publication of conforming amendments.

ADDRESSES: FAA Order 7400.11E, Airspace Designations and Reporting Points, and subsequent amendments can be viewed on line at http://www.faa.gov/airtraffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Sarah A. Combs, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order 7400.11, Airspace Designations and Reporting Points, incorporated by reference in 14 CFR 71.1, is published yearly. Amendments referred to as “effective date straddling amendments” were published under Order 7400.11D (dated August 8, 2019, and effective September 15, 2019), but became effective under Order 7400.11E (dated July 21, 2020, and effective September 15, 2020). This action incorporates these rules into the current FAA Order 7400.11E.

Accordingly, as this is an administrative correction to update final rule amendments into FAA Order 7400.11E, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends Title 14 Code of Federal Regulations (14 CFR) part 71 by incorporating certain final rules into the current FAA Order 7400.11E, Airspace Designations and Reporting Points, dated July 21, 2020, and effective September 15, 2020, which are depicted on aeronautical charts.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2020-0298; Airspace Docket No. 19-ANM-97 (85 FR 40588; July 7, 2020)

Correction

a. On page 40588, column 2, line 63, and column 3, line 11, under ADDRESSES, “. . . FAA Order 7400.11D . . .” is corrected to read “. . . FAA Order 7400.11E . . .”.

b. On page 40589, column 1, line 7, and line 10, under Availability and Summary of Documents for Incorporation by Reference, “. . . FAA Order 7400.11D . . .” is corrected to read “. . . FAA Order 7400.11E . . .”.

c. On page 40588, column 3, line 59, under History, “. . . FAA Order 7400.11D, dated August 8, 2019, and effective September 15, 2019, . . .” is corrected to read “. . . FAA Order 7400.11E, dated July 21, 2020, and effective September 15, 2020 . . .”.

d. On page 40589, column 1, line 4, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 40589, column 2, line 19, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

2. For Docket No. FAA-2019-0359; Airspace Docket No. 15-AAL-5 (85 FR 43684, July 20, 2020).

Correction

a. On page 43684, column 3, line 56, and on page 43685, column 2, line 7, under ADDRESSES, “. . . FAA Order 7400.11D. . .” is corrected to read “. . . FAA Order 7400.11E . . .”.

b. On page 43685, column 2, line 1, and line 4, under Availability and Summary of Documents for Incorporation by Reference, “. . . FAA Order 7400.11D . . .” is corrected to read “. . . FAA Order 7400.11E . . .”.

c. On page 43684, column 1, line 53, under History, “. . . FAA Order 7400.11D, dated August 8, 2019, and effective September 15, 2019, . . .” is corrected to read “. . . FAA Order 7400.11E, dated July 21, 2020, and effective September 15, 2020 . . .”.

d. On page 43684, column 1, line 64, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 243684, column 3, line 19, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

3. For Docket No. FAA-2020-0377; Airspace Docket No. 20-AGL-20 (85 FR 43431, July 17, 2020).

Correction

a. On page 43431, column 3, line 9, and line 22, under ADDRESSES, “. . . FAA Order 7400.11D . . .” is corrected to read “. . . FAA Order 7400.11E . . .”.

b. On page 43432, column 1, line 19, and line 22, under Availability and Summary of Documents for Incorporation by Reference, “. . . FAA Order 7400.11D . . .” is corrected to read “. . . FAA Order 7400.11E . . .”.

c. On page 43432, column 1, line 5, under History, “. . . FAA Order 7400.11D, dated August 8, 2019, and effective September 15, 2019, . . .” is corrected to read “. . . FAA Order 7400.11E, dated July 21, 2020, and effective September 15, 2020 . . .”.

d. On page 43432, column 1, line 15, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 43432, column 2, line 41, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

4. For Docket No. FAA-2020-0398; Airspace Docket No. 20-ACE-8 (85 FR 43427, July 17, 2020).

Correction

a. On page 43427, column 1, line 45, and line 58, under ADDRESSES, “. . . FAA Order 7400.11D . . .” is corrected to read “. . . FAA Order 7400.11E . . .”.

b. On page 43427, column 2, line 58, and line 61, under Availability and Summary of Documents for Incorporation by Reference, “. . . FAA Order 7400.11D . . .” is corrected to read “. . . FAA Order 7400.11E . . .”.

c. On page 43427, column 2, line 45, under History, “. . . FAA Order 7400.11D, dated August 8, 2019, and effective September 15, 2019, . . .” is corrected to read “. . . FAA Order 7400.11E, dated July 21, 2020, and effective September 15, 2020 . . .”.

d. On page 43427, column 2, line 55, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 43428, column 1, line 12, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

5. For Docket No. FAA-2020-0376; Airspace Docket No. 20-ACE-7 (85 FR 43428, July 17, 2020).

Correction

a. On page 43428, column 2, line 7, and line 20, under ADDRESSES, “. . . FAA Order 7400.11D . . .” is corrected to read “. . . FAA Order 7400.11E . . .”.

b. On page 43428, column 3, line 17, and line 20, under Availability and Summary of Documents for Incorporation by Reference, “. . . FAA Order 7400.11D . . .” is corrected to read “. . . FAA Order 7400.11E . . .”.

c. On page 43428, column 3, line 4, under History, “. . . FAA Order 7400.11D, dated August 8, 2019, and effective September 15, 2019, . . .” is corrected to read “. . . FAA Order 7400.11E, dated July 21, 2020, and effective September 15, 2020 . . .”.

d. On page 43428, column 3, line 14, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 43429, column 1, line 45, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

6. For Docket No. FAA-2020-0362; Airspace Docket No. 20-AGL-19 (85 FR 43432, July 17, 2020).

Correction

a. On page 43432, column 3, line 33, and line 46, under ADDRESSES, “. . . FAA Order 7400.11D . . .” is corrected to read “. . . FAA Order 7400.11E . . .”.

b. On page 43433, column 1, line 46, and line 49, under Availability and Summary of Documents for Incorporation by Reference, “. . . FAA Order 7400.11D . . .” is corrected to read “. . . FAA Order 7400.11E . . .”.

c. On page 43433, column 1, line 33, under History, “. . . FAA Order 7400.11D, dated August 8, 2019, and effective September 15, 2019, . . .” is corrected to read “. . . FAA Order 7400.11E, dated July 21, 2020, and effective September 15, 2020 . . .”.

d. On page 43433, column 1, line 43, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 43433, column 2, line 63, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

7. For Docket No. FAA-2020-0321; Airspace Docket No. 20-AGL-17 (85 FR 43425, July 17, 2020).

Correction

a. On page 43425, column 3, line 51, and column 3, line 3, under ADDRESSES, “. . . FAA Order 7400.11D . . .” is corrected to read “. . . FAA Order 7400.11E . . .”.

b. On page 43426, column 1, line 7, and line 10, under Availability and Summary of Documents for Incorporation by Reference, “. . . FAA Order 7400.11D . . .” is corrected to read “. . . FAA Order 7400.11E . . .”.

c. On page 43425, column 3, line 59, under History, “. . . FAA Order 7400.11D, dated August 8, 2019, and effective September 15, 2019, . . .” is corrected to read “. . . FAA Order 7400.11E, dated July 21, 2020, and effective September 15, 2020 . . .”.

d. On page 43426, column 1, line 4, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 43426, column 3, line 16, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

8. For Docket No. FAA-2020-0319; Airspace Docket No. 20-ACE-5 (85 FR 43429, July 17, 2020).

Correction

a. On page 43429, column 2, line 52, and column 3, line 4, under ADDRESSES, “. . . FAA Order 7400.11D . . .” is corrected to read “. . . FAA Order 7400.11E . . .”.

b. On page 43430, column 1, line 30, and line 33, under Availability and Summary of Documents for Incorporation by Reference, “. . . FAA Order 7400.11D . . .” is corrected to read “. . . FAA Order 7400.11E . . .”.

c. On page 43430, column 1, line 17, under History, “. . . FAA Order 7400.11D, dated August 8, 2019, and effective September 15, 2019, . . .” is corrected to read “. . . FAA Order 7400.11E, dated July 21, 2020, and effective September 15, 2020 . . .”.

d. On page 43430, column 1, line 27, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 43431, column 1, line 12, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

9. For Docket No. FAA-2020-0350; Airspace Docket No. 18-AAL-2 (85 FR 44467, July 23, 2020).

Correction

a. On page 44467, column 3, line 41, and line 54, under ADDRESSES, “. . . FAA Order 7400.11D . . .” is corrected to read “. . . FAA Order 7400.11E . . .”.

b. On page 44468, column 1, line 64, and column 21, line 1, under Availability and Summary of Documents for Incorporation by Reference, “. . . FAA Order 7400.11D . . .” is corrected to read “. . . FAA Order 7400.11E . . .”.

c. On page 44468, column 1, line 51, under History, “. . . FAA Order 7400.11D, dated August 8, 2019, and effective September 15, 2019, . . .” is corrected to read “. . . FAA Order 7400.11E, dated July 21, 2020, and effective September 15, 2020 . . .”.

d. On page 44468, column 1, line 61, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 44468, column 3, line 57, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

10. For Docket No. FAA-2020-0351; Airspace Docket No. 18-AAL-3 (85 FR 44469, July 23, 2020).

Correction

a. On page 44469, column 2, line 9, and line 22, under ADDRESSES, “. . . FAA Order 7400.11D . . .” is corrected to read “. . . FAA Order 7400.11E . . .”.

b. On page 44469, column 3, line 34, and line 37, under Availability and Summary of Documents for Incorporation by Reference, “. . . FAA Order 7400.11D . . .” is corrected to read “. . . FAA Order 7400.11E . . .”.

c. On page 44469, column 3, line 21, under History, “. . . FAA Order 7400.11D, dated August 8, 2019, and effective September 15, 2019, . . .” is corrected to read “. . . FAA Order 7400.11E, dated July 21, 2020, and effective September 15, 2020 . . .”.

d. On page 44469, column 3, line 31, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 44470, column 2, line 16, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

11. For Docket No. FAA-2020-0282; Airspace Docket No. 19-ANM-31 (85 FR 44688, July 24, 2020).

Correction

a. On page 44688, column 2, line 9, and line 22, under ADDRESSES, “. . . FAA Order 7400.11D . . .” is corrected to read “. . . FAA Order 7400.11E . . .”.

b. On page 44688, column 3, line 19, and line 22, under Availability and Summary of Documents for Incorporation by Reference, “. . . FAA Order 7400.11D . . .” is corrected to read “. . . FAA Order 7400.11E . . .”.

c. On page 44688, column 3, line 6, under History, “. . . FAA Order 7400.11D, dated August 8, 2019, and effective September 15, 2019, . . .” is corrected to read “. . . FAA Order 7400.11E, dated July 21, 2020, and effective September 15, 2020 . . .”.

d. On page 44688, column 3, line 16, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 44689, column 2, line 19, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

12. For Docket No. FAA-2020-0396; Airspace Docket No. 20-AGL-21 (85 FR 44689, July 24, 2020).

Correction

a. On page 44689, column 3, line 56, and on page 44690, column 1, line 8, under ADDRESSES, “. . . FAA Order 7400.11D . . .” is corrected to read “. . . FAA Order 7400.11E . . .”.

b. On page 44690, column 2, line 40, and line 43, under Availability and Summary of Documents for Incorporation by Reference, “. . . FAA Order 7400.11D . . .” is corrected to read “. . . FAA Order 7400.11E . . .”.

c. On page 44688, column 3, line 6, under History, “. . . FAA Order 7400.11D, dated August 8, 2019, and effective September 15, 2019, . . .” is corrected to read “. . . FAA Order 7400.11E, dated July 21, 2020, and effective September 15, 2020 . . .”.

d. On page 44688, column 3, line 16, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 44689, column 2, line 19, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

13. For Docket No. FAA-2020-0192; Airspace Docket No. 20-AEA-3 (85 FR 45995, July 31, 2020).

Correction

a. On page 45995, column 3, line 35, and line 48, under ADDRESSES, “. . . FAA Order 7400.11D . . .” is corrected to read “. . . FAA Order 7400.11E . . .”.

b. On page 45996, column 1, line 62, and line 65, under Availability and Summary of Documents for Incorporation by Reference, “. . . FAA Order 7400.11D . . .” is corrected to read “. . . FAA Order 7400.11E . . .”.

c. On page 45996, column 1, line 49, under History, “. . . FAA Order 7400.11D, dated August 8, 2019, and effective September 15, 2019, . . .” is corrected to read “. . . FAA Order 7400.11E, dated July 21, 2020, and effective September 15, 2020 . . .”.

d. On page 45996, column 1, line 59, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 45996, column 3, line 12, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

14. For Docket No. FAA-2020-0352; Airspace Docket No. 18-AAL-4 (85 FR 45997, July 31, 2020).

Correction

a. On page 45997, column 1, line 35, and line 48, under ADDRESSES, “. . . FAA Order 7400.11D . . .” is corrected to read “. . . FAA Order 7400.11E . . .”.

b. On page 45997, column 2, line 47, and line 50, under Availability and Summary of Documents for Incorporation by Reference, “. . . FAA Order 7400.11D . . .” is corrected to read “. . . FAA Order 7400.11E . . .”.

c. On page 45997, column 2, line 34, under History, “. . . FAA Order 7400.11D, dated August 8, 2019, and effective September 15, 2019, . . .” is corrected to read “. . . FAA Order 7400.11E, dated July 21, 2020, and effective September 15, 2020 . . .”.

d. On page 45997, column 2, line 44, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 45998, column 1, line 39, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

15. For Docket No. FAA-2019-0932; Airspace Docket No. 19-ASO-24 (85 FR 45993, July 31, 2020).

Correction

a. On page 45994, column 1, line 7, and line 20, under ADDRESSES, “. . . FAA Order 7400.11D . . .” is corrected to read “. . . FAA Order 7400.11E . . .”.

b. On page 45994, column 2, line 50, and line 53, under Availability and Summary of Documents for Incorporation by Reference, “. . . FAA Order 7400.11D . . .” is corrected to read “. . . FAA Order 7400.11E . . .”.

c. On page 45994, column 2, line 36, under History, “. . . FAA Order 7400.11D, dated August 8, 2019, and effective September 15, 2019, . . .” is corrected to read “. . . FAA Order 7400.11E, dated July 21, 2020, and effective September 15, 2020 . . .”.

d. On page 45994, column 2, line 47, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 45995, column 1, line 12, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

16. For Docket No. FAA-2020-0353; Airspace Docket No. 19-AWP-19 (85 FR 47017, August 4, 2020).

Correction

a. On page 47017, column 2, line 12, and line 25, under ADDRESSES, “. . . FAA Order 7400.11D . . .” is corrected to read “. . . FAA Order 7400.11E . . .”.

b. On page 47017, column 3, line 22, and line 25, under Availability and Summary of Documents for Incorporation by Reference, “. . . FAA Order 7400.11D . . .” is corrected to read “. . . FAA Order 7400.11E . . .”.

c. On page 47017, column 3, line 9, under History, “. . . FAA Order 7400.11D, dated August 8, 2019, and effective September 15, 2019, . . .” is corrected to read “. . . FAA Order 7400.11E, dated July 21, 2020, and effective September 15, 2020 . . .”.

d. On page 47017, column 3, line 19, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 47018, column 1, line 61, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

17. For Docket No. FAA-2020-0277; Airspace Docket No. 20-AEA-5 (85 FR 47016, August 4, 2020).

Correction

a. On page 47016, column 1, line 41, and line 52, under ADDRESSES, “. . . FAA Order 7400.11D . . .” is corrected to read “. . . FAA Order 7400.11E . . .”.

b. On page 47016, column 2, line 60, and line 63, under Availability and Summary of Documents for Incorporation by Reference, “. . . FAA Order 7400.11D . . .” is corrected to read “. . . FAA Order 7400.11E . . .”.

c. On page 47016, column 2, line 47, under History, “. . . FAA Order 7400.11D, dated August 8, 2019, and effective September 15, 2019, . . .” is corrected to read “. . . FAA Order 7400.11E, dated July 21, 2020, and effective September 15, 2020 . . .”.

d. On page 47016, column 2, line 57, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 47017, column 1, line 16, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

18. For Docket No. FAA-2020-0242; Airspace Docket No. 20-AEA-4 (85 FR 47894, August 7, 2020).

Correction

a. On page 47894, column 2, line 5, and line 18, under ADDRESSES, “. . . FAA Order 7400.11D . . .” is corrected to read “. . . FAA Order 7400.11E . . .”.

b. On page 47894, column 3, line 42, and line 45, under Availability and Summary of Documents for Incorporation by Reference, “. . . FAA Order 7400.11D . . .” is corrected to read “. . . FAA Order 7400.11E . . .”.

c. On page 47894, column 3, line 29, under History, “. . . FAA Order 7400.11D, dated August 8, 2019, and effective September 15, 2019, . . .” is corrected to read “. . . FAA Order 7400.11E, dated July 21, 2020, and effective September 15, 2020 . . .”.

d. On page 47894 column 3, line 39, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 47895, column 2, line 16, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

19. For Docket No. FAA-2020-0189; Airspace Docket No. 19-AGL-2 (85 FR 50777, August 18, 2020).

Correction

a. On page 50777, column 1, line 46, and line 59, under ADDRESSES, “. . . FAA Order 7400.11D . . .” is corrected to read “. . . FAA Order 7400.11E . . .”.

b. On page 50777, column 3, line 22, and line 25, under Availability and Summary of Documents for Incorporation by Reference, “. . . FAA Order 7400.11D . . .” is corrected to read “. . . FAA Order 7400.11E . . .”.

c. On page 50777, column 2, line 60, under History, “. . . FAA Order 7400.11D, dated August 8, 2019, and effective September 15, 2019, . . .” is corrected to read “. . . FAA Order 7400.11E, dated July 21, 2020, and effective September 15, 2020 . . .”.

d. On page 50777, column 3, line 19, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 50778, column 3, line 21, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

20. For Docket No. FAA-2020-0004; Airspace Docket No. 19-AGL-16 (85 FR 50774, August 18, 2020).

Correction

a. On page 50774, column 2, line 43, and line 56, under ADDRESSES, “. . . FAA Order 7400.11D . . .” is corrected to read “. . . FAA Order 7400.11E . . .”.

b. On page 50774, column 3, line 65, and on page 50775, column 1, line 22, under Availability and Summary of Documents for Incorporation by Reference, “. . . FAA Order 7400.11D . . .” is corrected to read “. . . FAA Order 7400.11E . . .”.

c. On page 50774, column 3, line 48, under History, “. . . FAA Order 7400.11D, dated August 8, 2019, and effective September 15, 2019, . . .” is corrected to read “. . . FAA Order 7400.11E, dated July 21, 2020, and effective September 15, 2020 . . .”.

d. On page 50774, column 3, line 62, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 50776, column 2, line 3, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

21. For Docket No. FAA-2019-0815; Airspace Docket No. 19-ASW-8 (85 FR 51329, August 20, 2020).

Correction

a. On page 52329, column 2, line 14, and line 27, under ADDRESSES, “. . . FAA Order 7400.11D . . .” is corrected to read “. . . FAA Order 7400.11E . . .”.

b. On page 52330, column 1, line 34, and line 37, under Availability and Summary of Documents for Incorporation by Reference, “. . . FAA Order 7400.11D . . .” is corrected to read “. . . FAA Order 7400.11E . . .”.

c. On page 52330, column 1, line 21, under History, “. . . FAA Order 7400.11D, dated August 8, 2019, and effective September 15, 2019, . . .” is corrected to read “. . . FAA Order 7400.11E, dated July 21, 2020, and effective September 15, 2020 . . .”.

d. On page 51330, column 1, line 31, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 51331, column 1, line 12, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

22. For Docket No. FAA-2020-0110; Airspace Docket No. 20-AGL-5 (85 FR 51325, August 20, 2020).

Correction

a. On page 51326, column 1, line 1, and line 14, under ADDRESSES, “. . . FAA Order 7400.11D . . .” is corrected to read “. . . FAA Order 7400.11E . . .”.

b. On page 51326, column 2, line 12, and line 15, under Availability and Summary of Documents for Incorporation by Reference, “. . . FAA Order 7400.11D . . .” is corrected to read “. . . FAA Order 7400.11E . . .”.

c. On page 51326, column 1, line 65, under History, “. . . FAA Order 7400.11D, dated August 8, 2019, and effective September 15, 2019, . . .” is corrected to read “. . . FAA Order 7400.11E, dated July 21, 2020, and effective September 15, 2020 . . .”.

d. On page 51326, column 2, line 9, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 51326, column 3, line 32, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

23. For Docket No. FAA-2020-0294; Airspace Docket No. 20-AGL-8 (85 FR 51324, August 20, 2020).

Correction

a. On page 51324, column 2, line 24, and line 37, under ADDRESSES, “. . . FAA Order 7400.11D . . .” is corrected to read “. . . FAA Order 7400.11E . . .”.

b. On page 51324, column 3, line 49, and line 52, under Availability and Summary of Documents for Incorporation by Reference, “. . . FAA Order 7400.11D . . .” is corrected to read “. . . FAA Order 7400.11E . . .”.

c. On page 51324, column 3, line 36, under History, “. . . FAA Order 7400.11D, dated August 8, 2019, and effective September 15, 2019, . . .” is corrected to read “. . . FAA Order 7400.11E, dated July 21, 2020, and effective September 15, 2020 . . .”.

d. On page 51324, column 3, line 46, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 51325, column 3, line 24, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

24. For Docket No. FAA-2020-0186; Airspace Docket No. 19-ANE-5 (85 FR 51327, August 20, 2020).

Correction

a. On page 51327, column 1, line 42, and line 55, under ADDRESSES, “. . . FAA Order 7400.11D . . .” is corrected to read “. . . FAA Order 7400.11E . . .”.

b. On page 51327, column 2, line 56, and line 59, under Availability and Summary of Documents for Incorporation by Reference, “. . . FAA Order 7400.11D . . .” is corrected to read “. . . FAA Order 7400.11E . . .”.

c. On page 51327, column 2, line 43, under History, “. . . FAA Order 7400.11D, dated August 8, 2019, and effective September 15, 2019, . . .” is corrected to read “. . . FAA Order 7400.11E, dated July 21, 2020, and effective September 15, 2020 . . .”.

d. On page 51327, column 2, line 53, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 51328, column 3, line 35, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

25. For Docket No. FAA-2020-0365; Airspace Docket No. 20-ASW-4 (85 FR 52045, August 24, 2020).

Correction

a. On page 52046, column 1, line 4, and line 17, under ADDRESSES, “. . . FAA Order 7400.11D . . .” is corrected to read “. . . FAA Order 7400.11E . . .”.

b. On page 52046, column 2, line 20, and line 23, under Availability and Summary of Documents for Incorporation by Reference, “. . . FAA Order 7400.11D . . .” is corrected to read “. . . FAA Order 7400.11E . . .”.

c. On page 52046, column 2, line 7, under History, “. . . FAA Order 7400.11D, dated August 8, 2019, and effective September 15, 2019, . . .” is corrected to read “. . . FAA Order 7400.11E, dated July 21, 2020, and effective September 15, 2020 . . .”.

d. On page 52046, column 2, line 17, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 52046, column 3, line 42, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

26. For Docket No. FAA-2020-0350; Airspace Docket No. 18-AAL-2 (85 FR 52270, August 25, 2020).

Correction

a. On page 52271, column 1, line 29, under History, “. . . FAA Order 7400.11D, dated August 8, 2019, and effective September 15, 2019, . . .” is corrected to read “. . . FAA Order 7400.11E, dated July 21, 2020, and effective September 15, 2020 . . .”.

27. For Docket No. FAA-2020-0244; Airspace Docket No. 19-AGL-1 (85 FR 53158, August 28, 2020).

Correction

a. On page 53158, column 3, line 24, and line 37, under ADDRESSES, “. . . FAA Order 7400.11D . . .” is corrected to read “. . . FAA Order 7400.11E . . .”.

b. On page 53159, column 1, line 19, under History, “. . . FAA Order 7400.11D, dated August 8, 2019, and effective September 15, 2019, . . .” is corrected to read “. . . FAA Order 7400.11E, dated July 21, 2020, and effective September 15, 2020 . . .”.

§ 71.1 [Corrected]

e. On page 53159, column 3, line 22, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

28. For Docket No. FAA-2020-0187; Airspace Docket No. 19-ASO-27 (85 FR 54233, September 1, 2020).

Correction

a. On page 54233, column 2, line 31, and line 44, under ADDRESSES, “. . . FAA Order 7400.11D . . .” is corrected to read “. . . FAA Order 7400.11E. . .”.

b. On page 54234, column 1, line 2, and line 5, under Availability and Summary of Documents for Incorporation by Reference, “. . . FAA Order 7400.11D . . .” is corrected to read “. . . FAA Order 7400.11E . . .”.

c. On page 54233, column 3, line 49, under History, “. . .FAA Order 7400.11D, dated August 8, 2019, and effective September 15, 2019, . . .” is corrected to read “. . . FAA Order 7400.11E, dated July 21, 2020, and effective September 15, 2020 . . .”.

d. On page 54233, column 3, line 59, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 54235, column 1, line 60, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

29. For Docket No. FAA-2020-0548; Airspace Docket No. 20-ACE-10 (85 FR 55368, September 8, 2020).

Correction

a. On page 55368, column 3, line 35, and line 48, under ADDRESSES, “. . . FAA Order 7400.11D . . .” is corrected to read “. . . FAA Order 7400.11E . . .”.

b. On page 55369, column 1, line 51, and line 54, under Availability and Summary of Documents for Incorporation by Reference, “. . . FAA Order 7400.11D . . .” is corrected to read “. . . FAA Order 7400.11E . . .”.

c. On page 55369, column 1, line 38, under History, “. . . FAA Order 7400.11D, dated August 8, 2019, and effective September 15, 2019, . . .” is corrected to read “. . . FAA Order 7400.11E, dated July 21, 2020, and effective September 15, 2020 . . .”.

d. On page 55369, column 1, line 48, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 55369, column 3, line 3, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

30. For Docket No. FAA-2020-0549; Airspace Docket No. 20-ACE-11 (85 FR 55369, September 8, 2020).

Correction

a. On page 55369, column 3, line 53, and on page 55370, column 1, line 8, under ADDRESSES, “. . . FAA Order 7400.11D . . .” is corrected to read “. . . FAA Order 7400.11E . . .”.

b. On page 55370, column 2, line 7, and line 8, under Availability and Summary of Documents for Incorporation by Reference, “. . . FAA Order 7400.11D . . .” is corrected to read “. . . FAA Order 7400.11E . . .”.

c. On page 55370, column 1, line 57, under History, “. . . FAA Order 7400.11D, dated August 8, 2019, and effective September 15, 2019, . . .” is corrected to read “. . . FAA Order 7400.11E, dated July 21, 2020, and effective September 15, 2020 . . .”.

d. On page 55370, column 2, line 4, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 55370, column 3, line 29, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

31. For Docket No. FAA-2020-0550; Airspace Docket No. 20-AGL-23 (85 FR 55371, September 8, 2020).

Correction

a. On page 55371, column 1, line 34, and line 47, under ADDRESSES, “. . . FAA Order 7400.11D . . .” is corrected to read “. . . FAA Order 7400.11E . . .”.

b. On page 55371, column 2, line 49, and line 52, under Availability and Summary of Documents for Incorporation by Reference, “. . . FAA Order 7400.11D . . .” is corrected to read “. . . FAA Order 7400.11E . . .”.

c. On page 55371, column 2, line 36, under History, “. . . FAA Order 7400.11D, dated August 8, 2019, and effective September 15, 2019, . . .” is corrected to read “. . . FAA Order 7400.11E, dated July 21, 2020, and effective September 15, 2020 . . .”.

d. On page 55371, column 2, line 46, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 55372, column 1, line 6, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

32. For Docket No. FAA-2020-05551; Airspace Docket No. 20-ASW-6 (85 FR 55366, September 8, 2020).

Correction

a. On page 55367, column 1, line 5, and line 18, under ADDRESSES, “. . . FAA Order 7400.11D . . .” is corrected to read “. . . FAA Order 7400.11E . . .”.

b. On page 55367, column 2, line 49, and line 52, under Availability and Summary of Documents for Incorporation by Reference, “. . . FAA Order 7400.11D . . .” is corrected to read “. . . FAA Order 7400.11E . . .”.

c. On page 55366, column 2, line 36, under History, “. . . FAA Order 7400.11D, dated August 8, 2019, and effective September 15, 2019, . . .” is corrected to read “. . . FAA Order 7400.11E, dated July 21, 2020, and effective September 15, 2020 . . .”.

d. On page 55367, column 2, line 46, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 55368, column 2, line 6, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”.

33. For Docket No. FAA-2020-0491; Airspace Docket No. 20-ASO-16 (85 FR 56514, September 14, 2020).

Correction

a. On page 56515, column 1, line 7, and line 20, under ADDRESSES, “. . . FAA Order 7400.11D . . .” is corrected to read “. . . FAA Order 7400.11E . . .”.

b. On page 56515, column 2, line 20, and line 23, under Availability and Summary of Documents for Incorporation by Reference, “. . . FAA Order 7400.11D . . .” is corrected to read “. . . FAA Order 7400.11E . . .”.

c. On page 56215, column 2, line 7, under History, “. . . FAA Order 7400.11D, dated August 8, 2019, and effective September 15, 2019, . . .” is corrected to read “. . . FAA Order 7400.11E, dated July 21, 2020, and effective September 15, 2020 . . .”.

d. On page 56215, column 2, line 17, under Availability and Summary of Documents for Incorporation by Reference, “. . . FAA Order 7400.11D Airspace Designations and Reporting Points, dated August 8, 2019, and effective September 15, 2020, . . .” is corrected to read “. . . FAA Order 7400.11E, Airspace Designations and Reporting Points, dated July 21, 2020, and effective September 15, 2020, . . .”.

§ 71.1 [Corrected]

e. On page 56515, column 3, line 32, under Amendatory Instruction 2, “. . . FAA Order 7400.11D, Airspace Designations and Reporting Points, dated August 8, 2019, and effective September 15, 2019, . . .” is corrected to read “. . . FAA Order 7400.11E, Airspace Designations and Reporting Points, dated July 21, 2020, and effective September 15, 2020, . . .”

Issued in Washington, DC, on October 13, 2020.
Scott M. Rosenbloom,
Acting Manager, Rules and Regulations Group.

[FR Doc. 2020-22956 Filed 10-21-20; 8:45 am]

BILLING CODE 4910-13-P